DEPARTMENT OF THE INTERIOR

Bureau of Land Management

[OR-050-1020-PG: GP2-0119]

Notice of Meeting of John Day/Snake Resource Advisory Council

AGENCY: Prineville District, Bureau of Land Management, Interior.

ACTION: Meeting of John Day/Snake Resource Advisory Council (RAC): Pendleton, Oregon May 21, 2002.

SUMMARY: On May 21, 2002 at 9:30 a.m. there will be a meeting of the John Day/Snake RAC at the Red Lion Hotel, 304 Southeast Nye Avenue, Pendleton, Oregon. The meeting is open to the public. Public comments will be received at 1 p.m. on May 21, 2002. The following topics may be discussed by the council during this meeting: Program of work review; Counties Payment Act (1608 Act) update; Hells Canyon Subgroup update; RAC membership update; Blue Mountain Subgroup update; ICBEMP Subgroup update; Noxious Weeds Subgroup update; National Fire Plan Update; National Fire Plan update; John Day River Management Plan Update; Sage Grouse Subgroup update; a 15 minute round table for general issues.

FOR FURTHER INFORMATION CONTACT: A. Barron Bail, Bureau of Land Management, Prineville District Office, 3050 NE Third Street, Prineville, Oregon 97754. Telephone (541) 416-6700.

A. Barron Bail,
District Manager.

[FR Doc. 02-7845 Filed 4-1-02; 8:45 am]

BILLING CODE 4310-33-P